DEPARTMENT OF HOMELAND SECURITY

Federal Emergency Management Agency

[Docket ID FEMA-2023-0002]

Changes in Flood Hazard Determinations

AGENCY: Federal Emergency Management Agency, Department of Homeland Security.

ACTION: Notice.

SUMMARY: New or modified Base (1-percent annual chance) Flood Elevations (BFEs), base flood depths, Special Flood Hazard Area (SFHA) boundaries or zone designations, and/or regulatory floodways (hereinafter referred to as flood hazard determinations) as shown on the indicated Letter of Map Revision (LOMR) for each of the communities listed in the table below are finalized. Each LOMR revises the Flood Insurance Rate Maps (FIRMs), and in some cases the Flood Insurance Study (FIS) reports, currently in effect for the listed communities.

DATES: Each LOMR was finalized as in the table below.

ADDRESSES: Each LOMR is available for inspection at both the respective Community Map Repository address listed in the table below and online through the FEMA Map Service Center at https://msc.fema.gov.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Mapping and Insurance eXchange (FMIX) online at https://www.floodmaps.fema.gov/fhm/fmx_main.html.

SUPPLEMENTARY INFORMATION: The Federal Emergency Management Agency (FEMA) makes the final flood hazard determinations as shown in the LOMRs for each community listed in the table below. Notice of these modified flood hazard determinations has been published in newspapers of local circulation and 90 days have elapsed since that publication. The Deputy Associate Administrator for Insurance and Mitigation has resolved any appeals resulting from this notification.

The modified flood hazard determinations are made pursuant to section 206 of the Flood Disaster Protection Act of 1973, 42 U.S.C. 4105, and are in accordance with the National Flood Insurance Act of 1968, 42 U.S.C. 4001 et seq., and with 44 CFR part 65. The currently effective community number is shown and must be used for all new policies and renewals.

The new or modified flood hazard information is the basis for the floodplain management measures that the community is required either to adopt or to show evidence of being already in effect in order to remain qualified for participation in the National Flood Insurance Program (NFIP).

This new or modified flood hazard information, together with the floodplain management criteria required by 44 CFR 60.3, are the minimum that are required. They should not be construed to mean that the community must change any existing ordinances that are more stringent in their floodplain management requirements. The community may at any time enact stricter requirements of its own or pursuant to policies established by other Federal, State, or regional entities.

This new or modified flood hazard determinations are used to meet the floodplain management requirements of the NFIP. The changes in flood hazard determinations are in accordance with 44 CFR 65.4.

Interested lessees and owners of real property are encouraged to review the final flood hazard information available at the address cited below for each community or online through the FEMA Map Service Center at https://msc.fema.gov.

(Catalog of Federal Domestic Assistance No. 97.022, “Flood Insurance.”)

Nicholas A. Shufro,
Deputy Assistant Administrator for Risk Management, Federal Emergency Management Agency, Department of Homeland Security.

State and county | Location and case No. | Chief executive officer of community | Community map repository | Date of modification | Community No.
California: San Luis Obispo (FEMA Docket No.: B-2368). | City of Arroyo Grande (22-09-1729P). | Whitney McDonald, City of Arroyo Grande Manager, 300 East Branch Street, Arroyo Grande, CA 93420. | Public Works Department, 300 East Branch Street, Arroyo Grande, CA 93420. | Oct. 2, 2023 | 060305
Colorado:
Adams (FEMA Docket No.: B-2372). | City of Thornton (23-08-0196P). | The Honorable Janifer Kulmann, Mayor, City of Thornton, 9500 Civic Center Drive, Thornton, CO 80229. | City Hall, 9500 Civic Center Drive, Thornton, CO 80229. | Oct. 13, 2023 | 080007
El Paso (FEMA Docket No.: B-2368). | City of Colorado Springs (22-08-0842P). | The Honorable John Suthers, Mayor, City of Colorado Springs, 30 South Nevada Avenue, Suite 601, Colorado Springs, CO 80903. | Pikes Peak Regional Building Department, Floodplain Management Office, 2880 International Circle, Colorado Springs, CO 80910. | Oct. 12, 2023 | 080060
El Paso (FEMA Docket No.: B-2368). | City of Manitou Springs (22-08-0492P). | The Honorable John Graham, Mayor, City of Manitou Springs, 606 Manitou Avenue, Manitou Springs, CO 80829. | Pikes Peak Regional Building Department, Floodplain Management Office, 2880 International Circle, Colorado Springs, CO 80910. | Sep. 29, 2023 | 080063
Jefferson (FEMA Docket No.: B-2368). | City of Lakewood (23-08-0091P). | The Honorable Adam Paul, Mayor, City of Lakewood, 480 South Allison Parkway, Lakewood, CO 80226. | Public Works Department, 470 South Allison Parkway, Lakewood, CO 80226. | Oct. 6, 2023 | 085075
Florida:
Brevard (FEMA Docket No.: B-2361). | City of Palm Bay (22-04-2818P). | The Honorable Rob Medina, Mayor, City of Palm Bay, 120 Malabar Road, Palm Bay, FL 32907. | Building Department, 190 Malabar Road Southwest, Suite 105, Palm Bay, FL 32908. | Oct. 6, 2023 | 120404
Charlotte (FEMA Docket No.: B-2372). | Unincorporated areas of Charlotte County (23-04-1652P). | Bill Truex, Chair, Charlotte County Board of Commissioners, 18500 Murdock Circle, Suite 536, Port Charlotte, FL 33948. | Charlotte County Building Department, 18500 Murdock Circle, Port Charlotte, FL 33948. | Oct. 13, 2023 | 120061
Hillsborough (FEMA Docket No.: B-2361). | City of Tampa (21-04-0665P). | John Bennett, Chief of Staff, City of Tampa, 306 East Jackson Street, Tampa, FL 33602. | Construction Services Department, 1400 North Boulevard, Tampa, FL 33607. | Oct. 23, 2023 | 120114
Hillsborough (FEMA Docket No.: B-2361). | Unincorporated areas of Hillsborough County (21-04-0665P). | Bonnie Wise, Hillsborough County Administrator, 601 East Kennedy Boulevard, 26th Floor, Tampa, FL 33602. | Hillsborough County Center, 601 East Kennedy Boulevard, 22nd Floor, Tampa, FL 33602. | Oct. 23, 2023 | 120112
Hillsborough (FEMA Docket No.: B-2361). | Unincorporated areas of Hillsborough County (23-04-1767P). | Bonnie Wise, Hillsborough County Administrator, 601 East Kennedy Boulevard, 26th Floor, Tampa, FL 33602. | Hillsborough County Center, 601 East Kennedy Boulevard, 22nd Floor, Tampa, FL 33602. | Oct. 12, 2023 | 120112
Monroe (FEMA Docket No.: B-2368). | Village of Islamorada (23-04-2764P). | The Honorable Joseph Buddy Pinder III, Mayor, Village of Islamorada, 86800 Overseas Highway, Islamorada, FL 33036. | Building Department, 86800 Overseas Highway, Islamorada, FL 33036. | Oct. 10, 2023 | 120424
Palm Beach (FEMA Docket No.: B-2361). | Unincorporated areas of Palm Beach County (22-04-3946P). | Verdenia C. Baker, Palm Beach County Administrator, 301 North Olive Avenue, West Palm Beach, FL 33401. | Palm Beach County Building Division, Planning, Zoning and Building Department, 2300 North Jog Road, West Palm Beach, FL 33411. | Oct. 2, 2023 | 120192
Kentucky: Boyd (FEMA Docket No.: B-2361). | Unincorporated areas of Boyd County (22-04-5324P). | The Honorable Eric Chaney, Judge Executive, Boyd County, 2800 Louisa Street, Catlettsburg, KY 41129. | Boyd County Code Enforcement Department, 2800 Louisa Street, Catlettsburg, KY 41129. | Oct. 16, 2023 | 210016
Massachusetts:
Essex (FEMA Docket No.: B-2372). | City of Gloucester (23-01-0347P). | The Honorable Greg Varga, Mayor, City of Gloucester, 9 Dale Avenue, Gloucester, MA 01930. | City Hall, 3 Pond Road, 2nd Floor, Gloucester, MA 01930. | Oct. 19, 2023 | 250082
Suffolk (FEMA Docket No.: B-2372). | City of Boston (21-01-1039P). | The Honorable Michelle Wu, Mayor, City of Boston, 1 City Hall Square, Suite 500, Boston, MA 02201. | City Hall, 1 City Hall Square, Suite 500, Boston, MA 02201. | Oct. 20, 2023 | 250286
Suffolk (FEMA Docket No.: B-2372). | City of Revere (21-01-1039P). | The Honorable Brian M. Arrigo, Mayor, City of Revere, 281 Broadway, Revere, MA 02151. | City Hall, 281 Broadway, Revere, MA 02151. | Oct. 20, 2023 | 250288
New Mexico:
Bernalillo (FEMA Docket No.: B-2361). | City of Albuquerque (22-06-2510P). | The Honorable Tim Keller, Mayor, City of Albuquerque, 1 Civic Plaza Northwest, Albuquerque, NM 87102. | City Hall, 1 Civic Plaza Northwest, Albuquerque, NM 87102. | Oct. 23, 2023 | 350002
Bernalillo (FEMA Docket No.: B-2361). | Unincorporated areas of Bernalillo County (22-06-2510P). | Barbara Baca, Chair, Bernalillo County Board of Commissioners, 415 Silver Avenue Southwest, Albuquerque, NM 87102. | Bernalillo County at Alvarado Square, 415 Silver Avenue Southwest, Albuquerque, NM 87102. | Oct. 23, 2023 | 350001
Pennsylvania:
Montgomery (FEMA Docket No.: B-2368). | Borough of Collegeville (23-03-0045P). | Catherine Kernen, President, Borough of Collegeville Council, 491 East Main Street, Collegeville, PA 19426. | Borough Hall, 491 East Main Street, Collegeville, PA 19426. | Oct. 16, 2023 | 421900
Montgomery (FEMA Docket No.: B-2368). | Township of Lower Providence (23-03-0045P). | E.J. Mentry, Manager, Township of Lower Providence, 100 Parklane Drive, Eagleville, PA 19403. | Community Development Department, 100 Parklane Drive, Eagleville, PA 19403. | Oct. 16, 2023 | 420703
Texas:
Collin (FEMA Docket No.: B-2372). | City of Murphy (22-06-2774P). | The Honorable Scott Bradley, Mayor, City of Murphy, 206 North Murphy Road, Murphy, TX 75094. | City Hall, 206 North Murphy Road, Murphy, TX 75094. | Oct. 23, 2023 | 480137
Collin (FEMA Docket No.: B-2372). | City of Plano (22-06-2774P). | The Honorable John Muns, Mayor, City of Plano, 1520 K Avenue, Suite 250, Plano, TX 75074. | Engineering Department, 1520 K Avenue, Suite 250, Plano, TX 75074. | Oct. 23, 2023 | 480140
Collin (FEMA Docket No.: B-2372). | City of Richardson (22-06-2774P). | The Honorable Bob Dubey, Mayor, City of Richardson, 411 West Arapaho Road, Richardson, TX 75080. | Engineering Department, 1302 East Collins Boulevard, Richardson, TX 75081. | Oct. 23, 2023 | 480184
Collin (FEMA Docket No.: B-2361). | City of Wylie (23-06-0077P). | The Honorable Matthew Porter, Mayor, City of Wylie, 300 Country Club Road, Building 100, Wylie, TX 75098. | City Hall, 300 Country Club Road, Building 100, Wylie, TX 75098. | Oct. 12, 2023 | 480759
Collin (FEMA Docket No.: B-2372). | Unincorporated areas of Collin County (22-06-2774P). | The Honorable Chris Hill, Collin County Judge, 2300 Bloomdale Road, Suite 4192, McKinney, TX 75071. | Collin County Engineering Department, 4690 Community Avenue, Suite 200, McKinney, TX 75071. | Oct. 23, 2023 | 480130
Collin (FEMA Docket No.: B-2361). | Unincorporated areas of Collin County (23-06-0077P). | The Honorable Chris Hill, Collin County Judge, 2300 Bloomdale Road, Suite 4192, McKinney, TX 75071. | Collin County Engineering Department, 4690 Community Avenue, Suite 200, McKinney, TX 75071. | Oct. 12, 2023 | 480130
Denton (FEMA Docket No.: B-2368). | City of Denton (23-06-0154P). | Sara Hensley, City of Denton Manager, 215 East McKinney Street, Denton, TX 76201. | Development Services Department, 401 North Elm Street, Denton, TX 76201. | Oct. 10, 2023 | 480194
Denton (FEMA Docket No.: B-2368). | Unincorporated areas of Denton County (23-06-0154P). | The Honorable Andy Eads, Denton County Judge, 1 Courthouse Drive, Suite 3100, Denton, TX 76208. | Denton County Hall, 1 Courthouse Drive, Denton, TX 76208. | Oct. 10, 2023 | 480774
Ellis (FEMA Docket No.: B-2361). | Unincorporated areas of Ellis County (22-06-2111P). | The Honorable Todd Little, Ellis County Judge, 101 West Main Street, Waxahachie, TX 75165. | Ellis County Courts and Administration, 109 South Jackson Street, Waxahachie, TX 75165. | Oct. 19, 2023 | 480798
Grayson (FEMA Docket No.: B-2368). | City of Denison (22-06-2995P). | The Honorable Janet Gott, Mayor, City of Denison, 300 West Main Street, Denison, TX 75020. | City Hall, 300 West Main Street, Denison, TX 75020. | Oct. 2, 2023 | 480259
Grayson (FEMA Docket No.: B-2368). | City of Sherman (22-06-2995P). | The Honorable David Plyler, Mayor, City of Sherman, 220 West Mulberry Street, Sherman, TX 75090. | City Hall, 220 West Mulberry Street, Sherman, TX 75090. | Oct. 2, 2023 | 485509
Hunt (FEMA Docket No.: B-2368). | City of Josephine (23-06-0202P). | The Honorable Jason Turney, Mayor, City of Josephine, P.O. Box 99, Josephine, TX 75164. | City Hall, 201 South Main Street, Josephine, TX 75173. | Sep. 29, 2023 | 480756
Hunt (FEMA Docket No.: B-2368). | Unincorporated areas of Hunt County (23-06-0202P). | The Honorable Bobby W. Stovall, Hunt County Judge, 2507 Lee Street, 2nd Floor, Greenville, TX 75401. | Hunt County Courthouse, 2507 Lee Street, 2nd Floor, Greenville, TX 75401. | Sep. 29, 2023 | 480363
Johnson (FEMA Docket No.: B-2314). | City of Burleson (22-06-0312P and, 23-06-2065P). | The Honorable Chris Fletcher, Mayor, City of Burleson, 141 West Renfro Street, Burleson, TX 76028. | City Hall, 141 West Renfro Street, Burleson, TX 76028. | Apr. 13, 2023 and Oct. 4, 2023 | 485459
Johnson (FEMA Docket No.: B-2314). | Unincorporated areas of Johnson County (22-06-0312P and, 23-06-2065P). | The Honorable Roger Harmon, Johnson County Judge, 2 North Main Street, Cleburne, TX 76033. | Johnson County Public Works Department, 2 North Main Street, Cleburne, TX 76033. | Apr. 13, 2023 and Oct. 4, 2023 | 480879
Tarrant (FEMA Docket No.: B-2368). | City of Everman (22-06-2189P). | The Honorable Ray Richardson, Mayor, City of Everman, 212 North Race Street, Everman, TX 76140. | City Hall, 212 North Race Street, Everman, TX 76140. | Oct. 2, 2023 | 480594
Tarrant (FEMA Docket No.: B-2372). | City of Everman (23-06-0333P). | The Honorable Ray Richardson, Mayor, City of Everman, 212 North Race Street, Everman, TX 76140. | City Hall, 212 North Race Street, Everman, TX 76140. | Oct. 16, 2023 | 480594
Tarrant (FEMA Docket No.: B-2372). | City of Fort Worth (22-06-1840P). | The Honorable Mattie Parker, Mayor, City of Fort Worth, 200 Texas Street, Fort Worth, TX 76102. | Department of Transportation and Public Works, Engineering Vault and Map Repository, 200 Texas Street, Fort Worth, TX 76102. | Oct. 23, 2023 | 480596
Tarrant (FEMA Docket No.: B-2368). | City of Fort Worth (22-06-2189P). | The Honorable Mattie Parker, Mayor, City of Fort Worth, 200 Texas Street, Fort Worth, TX 76102. | Transportation and Public Works Department, Engineering Vault, 200 Texas Street, Fort Worth, TX 76102. | Oct. 2, 2023 | 480596
Tarrant (FEMA Docket No.: B-2368). | City of Fort Worth (23-06-0163P). | The Honorable Mattie Parker, Mayor, City of Fort Worth, 200 Texas Street, Fort Worth, TX 76102. | Transportation and Public Works Department, Engineering Vault, 200 Texas Street, Fort Worth, TX 76102. | Oct. 10, 2023 | 480596
Tarrant (FEMA Docket No.: B-2372). | City of Fort Worth (23-06-0164P). | The Honorable Mattie Parker, Mayor, City of Fort Worth, 200 Texas Street, Fort Worth, TX 76102. | Department of Transportation and Public Works, Engineering Vault and Map Repository, 200 Texas Street, Fort Worth, TX 76102. | Oct. 23, 2023 | 480596
Williamson (FEMA Docket No.: B-2368). | City of Round Rock (22-06-2322P). | The Honorable Craig Morgan, Mayor, City of Round Rock, 221 East Main Street, Round Rock, TX 78664. | Utilities and Environmental Services Department, 3400 Sunrise Road, Round Rock, TX 78665. | Oct. 16, 2023 | 481048
Virginia: Independent City (FEMA Docket No.: B-2368). | City of Fairfax (22-03-1047P). | Robert A. Stalzer, City of Fairfax Manager, 10455 Armstrong Street, Room 316, Fairfax, VA 22030. | Public Works Department, 10455 Armstrong Street, Room 200, Fairfax, VA 22030. | Oct. 2, 2023 | 515524

[FR Doc. 2023-24337 Filed 11-2-23; 8:45 am]

BILLING CODE 9110-12-P